DEPARTMENT OF COMMERCE

Bureau of the Census

[Docket Number 021121280-2280-01]

Annual Surveys in the Manufacturing Area

AGENCY: Bureau of the Census, Commerce.

ACTION: Notice of determination.

SUMMARY: The Bureau of the Census (Census Bureau) is conducting the 2002 Annual Surveys in the Manufacturing Area. The 2002 Annual Surveys consist of the Current Industrial Reports surveys, the Survey of Industrial Research and Development, and the Survey of Plant Capacity Utilization. We have determined that annual data collected from these surveys are needed to aid the efficient performance of essential governmental functions and have significant application to the needs of the public and industry. The data derived from these surveys, most of which have been conducted for many years, are not publicly available from nongovernmental or other governmental sources.

FOR FURTHER INFORMATION CONTACT: William G. Bostic, Jr., Chief, Manufacturing and Construction Division, on (301) 763-4593.

SUPPLEMENTARY INFORMATION: The Census Bureau is authorized to conduct mandatory surveys necessary to furnish current data on the subjects covered by the major censuses authorized by Title 13, United States Code (U.S.C.), sections 61, 81, 131, 182, 193, 224, and 225. For 2002, the economic census year, the surveys will, as they have in the past, operate as separate collections of national statistical data on manufacturing. The data collected in these surveys will be similar to that collected in the past and within the general scope and nature of those inquiries covered in the economic census. In this, the economic census year, all the data collected in these surveys are mandatory under Title 13, U.S.C. In the interim years, most of these surveys are conducted under a mandatory basis as well.

Current Industrial Reports

Most of the following commodity or product surveys provide data on shipments or production, stocks, unfilled orders, orders booked, consumption, and so forth. Reports will be required of all or a sample of establishments engaged in the production of the items covered by the following list of surveys.

Survey Title

MA311D | Confectionery
MA313F | Yarn Production
MA313K | Knit Fabric Production
MA314Q | Carpets and Rugs
MA315D | Gloves and Mittens
MA316A | Footwear Production
MA321T | Lumber Production and Mill Stocks
MA325F | Paint and Allied Products
MA325G | Pharmaceutical Preparations, except Biologicals
MA327C | Refractories
MA327E | Consumer, Scientific, Technical, and Industrial Glassware
MA331A | Iron and Steel Castings
MA331B | Steel Mill Products
MA331E | Nonferrous Castings
MA332Q | Antifriction Bearings
MA333A | Farm Machinery and Lawn and Garden Equipment
MA333D | Construction Machinery
MA333F | Mining Machinery and Mineral Processing Equipment
MA333L | Internal Combustion Engines
MA333M | Refrigeration, Air-conditioning, and Warm Air Equipment
MA333N | Fluid Power Products
MA333P | Pumps and Compressors
MA334B | Selected Instruments and Related Products
MA334M | Consumer Electronics
MA334P | Communication Equipment
MA334Q | Semiconductors, Printed Circuit Boards, and Electronic Components
MA334R | Computers and Office and Accounting Machines
MA334S | Electromedical and Irradiation Equipment
MA335A | Switchgear, Switchboard Apparatus, Relays, and Industrial Controls
MA335E | Electric Housewares and Fans
MA335F | Major Household Appliances
MA335H | Motors and Generators
MA335J | Insulated Wire and Cable
MA335K | Wiring Devices and Supplies

The following list of surveys represent annual counterparts of monthly and quarterly surveys and will cover only those establishments that are not canvassed, or do not report, in the more frequent surveys. Accordingly, there will be no duplication in reporting. The content of these annual reports will be identical with that of the monthly and quarterly reports.

Survey Title

M311H | Animal and Vegetable Fats and Oils (Stocks)
M311J | Oilseeds, Beans, and Nuts (Primary Producers)
M311L | Fats and Oils (Renderers)
M311M | Animal and Vegetables Fats and Oils (Consumption and Stocks)
M311N | Animal and Vegetables Fats and Oils (Production, Consumption, and Stock)
M313P | Consumption on the Cotton System
M313N | Cotton and Raw Linters in Public Storage
M327G | Glass Containers
M331J | Inventories of Steel Producing Mills
M336G | Civil Aircraft and Aircraft Engines
MQ311A | Flour Milling Products
MQ313D | Consumption on the Woolen System and Worsted Combing
MQ313T | Broadwoven Fabrics (Gray)
MQ314X | Bed and Bath Furnishings
MQ315A | Apparel
MQ325A | Inorganic Chemicals
MQ325B | Fertilizer Materials
MQ325C | Industrial Gases
MQ327D | Clay Construction Products
MQ333W | Metalworking Machinery
MQ335C | Fluorescent Lamp Ballasts

Survey of Industrial Research and Development

The Survey of Industrial Research and Development measures spending on research and development activities in private U.S. businesses. The Census Bureau collects and compiles this information with funding from the National Science Foundation (NSF). The NSF publishes the results in its publication series.

Survey of Plant Capacity Utilization

The Survey of Plant Capacity Utilization is designed to measure the use of industrial capacity. The survey collects information on actual output and estimates of potential output in terms of value of production. These data are the basis for calculating rates of utilization of full production capability and use of production capability under national emergency conditions.

Based upon the foregoing, the Census Bureau will be conducting the Annual Surveys in the Manufacturing Area for the purpose of collecting these data.

Notwithstanding any other provision of law, no person is required to respond to, nor shall a person be subject to a penalty for failure to comply with, a collection of information subject to the requirements of the Paperwork Reduction Act (PRA) unless that collection of information displays a current valid Office of Management and Budget (OMB) control number. In accordance with the PRA, 44 U.S.C. chapter 45, the OMB approved the 2002 Annual Surveys under the following OMB Control Numbers: Current Industrial Reports—0607-0206, 0607-0392, 0607-0393, 0607-0395, and 0607-0476; Survey of Industrial Research and Development—3145-0027; and Survey of Plant Capacity Utilization—0607-0175. We will provide copies of each form upon written request to the Director, U.S. Census Bureau, Washington, DC 20233-0001.

Dated: November 26, 2002.
Charles Louis Kincannon,
Director, Bureau of the Census.

[FR Doc. 02-30573 Filed 12-2-02; 8:45 am]

BILLING CODE 3510-07-P